FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 30, 2009.

A. Federal Reserve Bank of Kansas City (Dennis Denney, Assistant Vice President) 1 Memorial Drive, Kansas City, Missouri 64198-0001:

1. The Robert and Norman Ohlde Trust, Robert and Norma Ohlde, trustees; Steven and Cynthia Ohlde, all of Linn, Kansas; and Timothy and Debra Ohlde, Clyde, Kansas, acting in concert; to retain/acquire voting shares of Elkcorp, Inc., and thereby indirectly retain/acquire voting shares of The Elk State Bank, both in Clyde, Kansas.

Board of Governors of the Federal Reserve System, December 9, 2009.
Robert deV. Frierson,
Deputy Secretary of the Board.

[FR Doc. E9-29651 Filed 12-11-09; 8:45 am]

BILLING CODE 6210-01-S